DEPARTMENT OF COMMERCE

Foreign-Trade Zones Board

[S-085-2015]

Foreign-Trade Zone 191—Palmdale, California, Application for Subzone, Michaels Stores Procurement Company, Inc., Lancaster, California

An application has been submitted to the Foreign-Trade Zones Board (the Board) by the City of Palmdale, California, grantee of FTZ 191, requesting subzone status for the facility of Michaels Stores Procurement Company, Inc. (Michaels), located in Lancaster, California. The application was submitted pursuant to the provisions of the Foreign-Trade Zones Act, as amended (19 U.S.C. 81a-81u), and the regulations of the Board (15 CFR part 400). It was formally docketed on June 9, 2015.

The proposed subzone (47 acres) is located at 3501 W. Avenue H, Lancaster, California. No authorization for production activity has been requested at this time. The proposed subzone would be subject to the existing activation limit of FTZ 191.

In accordance with the Board's regulations, Christopher Kemp of the FTZ Staff is designated examiner to review the application and make recommendations to the Executive Secretary.

Public comment is invited from interested parties. Submissions shall be addressed to the Board's Executive Secretary at the address below. The closing period for their receipt is July 27, 2015. Rebuttal comments in response to material submitted during the foregoing period may be submitted during the subsequent 15-day period to August 10, 2015.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

FOR FURTHER INFORMATION CONTACT: Christopher Kemp at christopher.kemp@trade.gov or (202) 482-0862.

Dated: June 9, 2015.
Elizabeth Whiteman,
Acting Executive Secretary.

[FR Doc. 2015-14646 Filed 6-12-15; 8:45 am]

BILLING CODE 3510-DS-P